DEPARTMENT OF TRANSPORTATION

Federal Aviation Administration

Notice of Intent To Rule on Application (01-03-C-00-SLC) To Impose and Use the Revenue From a Passenger Facility Charge (PFC) at Salt Lake City International Airport, Submitted by the Salt Lake City Department of Airports, Salt Lake City, Utah

AGENCY: Federal Aviation Administration (FAA), DOT.

ACTION: Notice of Intent to Rule on Application.

SUMMARY: The FAA proposes to rule and invites public comment on the application to impose and use PFC revenue at Salt Lake City International Airport under the provisions of 49 U.S.C. 40117 and Part 158 of the Federal Aviation Regulations (14 CFR 158).

DATES: Comments must be received on or before December 11, 2000.

ADDRESSES: Comments on this application may be mailed or delivered in triplicate to the FAA at the following address: Mr. Alan E. Wiechmann, Manager, Denver Airports District Office, DEN-ADO, Federal Aviation Administration; 26805 East 68th Avenue, Suite 224, Denver, Colorado 80249.

In addition, one copy of any comments submitted to the FAA must be mailed or delivered to Mr. Timothy L. Campbell, Executive Director, at the following address: Salt Lake City Department of Airports, 776 N. Terminal Dr., TUI, Suite 250, Salt Lake City, Utah 84122.

Air Carriers and foreign air carriers may submit copies of written comments previously provided to Salt Lake City International Airport, under section 158.23 of Part 158.

FOR FURTHER INFORMATION CONTACT: Mr. Christopher J. Schaffer, (303) 342-1258, 26805 East 68th Avenue, Suite 224, Denver, Colorado 80249. The application may be reviewed in person at this same location.

SUPPLEMENTARY INFORMATION: The FAA proposes to rule and invites public comment on the application (01-03-C-00-SLC), to impose and use PFC revenue at Salt Lake City International Airport, under the provisions of 49 U.S.C. 40117 and Part 158 of the Federal Aviation Regulations (14 CFR Part 158).

On October 30, 2000, the FAA determined that, the application to impose and use the revenue from a PFC, submitted by the Salt Lake City Department of Airports, Salt Lake City, Utah, was substantially complete within the requirements of section 158.25 of Part 158. The FAA will approve or disapprove the application, in whole or in part, no later than January 30, 2001.

The following is a brief overview of the application.

Level of the proposed PFC: $4.50.

Proposed charge effective date: June 1, 2001.

Proposed charge expiration date: March 31, 2002.

Total requested for use approval: $28,822,000.

Brief description of proposed project: Taxiway “H” reconstruction, Cargo apron bypass, South cargo apron expansion, Airfield emergency access road and snow storage, Improve airport access road, Taxiway “S” reconstruction, Cargo site development and security gate, East apron overlay and reconstruction (Phase I), Airfield bird habitat management (Phase I), Bird hazard remediation (Phase II), Bird hazard remediation (Phase III), Security access system, Security system expansion and upgrade, Perimeter security fencing upgrade (Phase I), Perimeter security fencing upgrade (Phase II), Electrical vault modifications, Airfield lighting control system and communication equipment relocation, Modify elevated runway guard light and install precision approach path indicator and runway end identifier lights, CAT III and ALSF-II on Runway 16L, East side deicing, Fire station 11 relocation, CCTV system modifications and upgrades, Automated exit lane at screening checkpoints, Runway guard lights upgrade, Constant current regulator and circuit modifications, Deicing drainage improvements, North cargo taxilane extension, Taxiway “H” reconstruction (Phase II), Runway 16L pavement end and Taxiway “H” reconstruction, acquisition of land, Tooele Valley Airport wildlife fencing, Site preparation for new apron paving, West apron paving and lighting (Phase I), West apron drainage, East apron drainage, West apron paving (Phase II).

Class or classes of air carriers which the public agency has requested not be required to collect PFC's: All air taxi/commercial operators filing or required to file FAA Form 1800-31.

Any person may inspect the application in person at the FAA office listed above under FOR FURTHER INFORMATION CONTACT and at the FAA Regional Airports Office located at: Federal Aviation Administration, Northwest Mountain Region, Airports Division, ANM-600, 1601 Lind Avenue SW., Suite 315, Renton, WA 98055-4056.

In addition, any person may, upon request, inspect the application, notice and other documents germane to the application in person at Salt Lake City International Airport.

Issued in Renton, Washington on October 30, 2000.
David A. Field,
Manager, Planning, Programming and Capacity Branch, Northwest Mountain Region.

[FR Doc. 00-28736 Filed 11-8-00; 8:45 am]

BILLING CODE 4910-13-M